FEDERAL ELECTION COMMISSION

Sunshine Act Meeting

FEDERAL REGISTER CITATION NOTICE OF PREVIOUS ANNOUNCEMENT: 82 FR 57756.

PREVIOUSLY ANNOUNCED TIME AND DATE OF THE MEETING: Tuesday, December 12, 2017 at 10:00 a.m. and its continuation at the conclusion of the open meeting on December 14, 2017.

CHANGES IN THE MEETING: This meeting also discussed: Information the premature disclosure of which would be likely to have a considerable adverse effect on the implementation of a proposed Commission action.

* * * * *

CONTACT FOR MORE INFORMATION: Judith Ingram, Press Officer, Telephone: (202) 694-1220.

Laura E. Sinram,
Deputy Secretary of the Commission.

[FR Doc. 2017-27379 Filed 12-15-17; 11:15 am]

BILLING CODE 6715-01-P